DEPARTMENT OF HOMELAND SECURITY

U.S. Customs and Border Protection

Delay of Effective Date for the Automated Commercial Environment (ACE) Becoming the Sole CBP-Authorized Electronic Data Interchange (EDI) System for Processing Electronic Drawback and Duty Deferral Entry and Entry Summary Filings

AGENCY: U.S. Customs and Border Protection, Department of Homeland Security.

ACTION: Delay of effective date.

SUMMARY: On August 30, 2016, U.S. Customs and Border Protection (CBP) published a notice in the Federal Register announcing plans to make the Automated Commercial Environment (ACE) the sole electronic data interchange (EDI) system authorized by the Commissioner of U.S. Customs and Border Protection (CBP) for processing electronic drawback and duty deferral entry and entry summary filings. The changes announced in that notice were to have been effective on October 1, 2016. On October 3, 2016, CBP published a notice in the Federal Register announcing that the effective date for the transition to ACE as the sole CBP-authorized EDI system for electronic drawback and duty deferral entry and entry summary filings would be delayed until further notice. On December 12, 2016, CBP published a notice in the Federal Register announcing that the effective date for the transition would be January 14, 2017. This notice announces that the effective date for the transition has been delayed until further notice.

DATES: The effective date is delayed until further notice: CBP will publish a subsequent notice announcing the effective date when ACE will be the sole CBP-authorized EDI system for processing electronic drawback and duty deferral entry and entry summary filings, and ACS will no longer be a CBP-authorized EDI system for purposes of processing these filings.

FOR FURTHER INFORMATION CONTACT: Questions related to this notice may be emailed to ASKACE@cbp.dhs.gov with the subject line identifier reading “ACS to ACE Drawback and Duty Deferral Entry and Entry Summary Filings transition”.

SUPPLEMENTARY INFORMATION: On August 30, 2016, U.S. Customs and Border Protection (CBP) published a notice in the Federal Register (81 FR 59644) announcing plans to make the Automated Commercial Environment (ACE) the sole electronic data interchange (EDI) system authorized by the Commissioner of U.S. Customs and Border Protection (CBP) for processing electronic drawback and duty deferral entry and entry summary filings, effective on October 1, 2016. The document also announced that, on October 1, 2016, the Automated Commercial System (ACS) would no longer be a CBP-authorized EDI system for purposes of processing these electronic filings. Finally, the notice announced a name change for the ACE filing code for duty deferral and the creation of a new ACE filing code for all electronic drawback filings, replacing the six distinct drawback codes previously filed in ACS. On October 3, 2016, CBP published a notice in the Federal Register (81 FR 68023) announcing that the effective date for these changes would be delayed until further notice. Thereafter, on December 12, 2016, CBP published a notice in the Federal Register (81 FR 89486) announcing that the new effective date for the transition would be January 14, 2017.

The effective date for the all that was announced in the August 30, 2016 Federal Register notice, including the transition to ACE as the sole CBP-authorized EDI system for electronic drawback and duty deferral entry and entry summary filings, is delayed until further notice. CBP will publish a subsequent notice announcing the effective date.

Dated: January 11, 2017.
Brenda B. Smith,
Executive Assistant Commissioner, Office of Trade.

[FR Doc. 2017-00852 Filed 1-13-17; 8:45 am]

BILLING CODE 9111-14-P